DEPARTMENT OF AGRICULTURE

Submission for OMB Review; Comment Request

February 4, 2013.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Rural Business-Cooperative Service

Title: Renewable Energy Systems and Energy Efficiency Improvements under the Rural Energy for America Program.

OMB Control Number: 0570-0050.

Summary of Collection: This program is authorized under the Food, Conservation, and Energy Act of 2008 (Act) that established the Rural Energy for America Program (REAP) under Title IX, Section 9007. The Act requires the Secretary of Agriculture to provide grants and/or guaranteed loans for several types of projects, including grants, loan guarantees, and grants and loan guarantees (combined funding) to agricultural producers and rural small businesses to purchase renewable energy systems and make energy efficiency improvements. REAP is designed to help agricultural producers and rural small business reduce energy cost and consumption, develop new income streams, and help meet the nation's critical energy needs. Applicants wishing to apply for the grant or guaranteed loans will have to submit applications along with specified documents to the State Rural Energy Coordinator.

Need and Use of the Information: RBS will use the collected information to determine applicant eligibility, to determine project eligibility and feasibility, ensure compliance with applicable regulations, and to ensure that grantees/borrowers operate on a sound basis and use funds for authorized purposes. Without this collection of information RBS would be unable to meet the requirements of the Act and effectively administer the program.

Description of Respondents: Farmers, Ranchers, and Business or other for-profit.

Number of Respondents: 3,634.

Frequency of Responses: Annually.

Total Burden Hours: 310,184.

Charlene Parker,
Departmental Information Collection Clearance Officer.

[FR Doc. 2013-02809 Filed 2-7-13; 8:45 am]

BILLING CODE 3410-XT-P